DEPARTMENT OF TRANSPORTATION

Surface Transportation Board

[STB Ex Parte No. 587]

Information Quality Guidelines

Authority: Section 515 of the Treasury and General Government Appropriations Act for Fiscal Year 2001 (Pub. L. 106-554; 114 Stat. 2763).

AGENCY: Surface Transportation Board, DOT.

ACTION: Notice of guidelines and request for comments.

SUMMARY: The Surface Transportation Board (Board) is seeking comments on its draft Information Quality Guidelines (I.Q. Guidelines). The I.Q. Guidelines contain the Board's information resource management procedures for reviewing and substantiating the quality of information before it is disseminated to the public, and the procedures by which an affected person may obtain correction of information disseminated by the Board that does not comply with the I.Q. Guidelines. The Board will consider comments in developing its final I.Q. Guidelines.

DATES: Comments are due May 1, 2002.

ADDRESSES: Send comments (an original plus 10 copies) referring to Ex Parte No. 587 to: Surface Transportation Board, Office of the Secretary, Case Control Branch, 1925 K Street, NW., Washington, DC 20423-0001.

FOR FURTHER INFORMATION CONTACT: John M. Atkisson (202) 565-1710. [TDD for hearing impaired: (800) 877-8339.]

SUPPLEMENTARY INFORMATION: The Board's draft I.Q. Guidelines are posted on its website, www.stb.dot.gov. In addition, copies of the I.Q. Guidelines may be purchased from Da-2-Da Legal Copy Service by calling 202-293-7776 (assistance for the hearing impaired is available through TDD services at 800-877-8339) or visiting Suite 405, 1925 K Street, NW., Washington, DC 20006.

Decided: March 27, 2002.
By the Board, John M. Atkisson, Designated Official.
Vernon A. Williams,
Secretary.

[FR Doc. 02-7792 Filed 3-29-02; 8:45 am]

BILLING CODE 4915-00-P